DEPARTMENT OF ENERGY

Proposed Agency Information Collection

AGENCY: U.S. Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before October 11, 2016. If you anticipate difficulty in submitting comments within that period, contact the person listed in ADDRESSES as soon as possible.

ADDRESSES: Written comments may be sent to Linh Truong, National Renewable Energy Laboratory, Attn: Linh Truong, Mail Stop: RSF034, 15013 Denver West Parkway, Golden, CO 80401, or by fax at 303-630-2108, or by email at linh.truong@nrel.gov.

FOR FURTHER INFORMATION CONTACT: Requests for additional information or copies of the information collection instrument and instructions should be directed to: Craig Turchi, National Renewable Energy Laboratories, 303-384-7565, Craig.Turchi@nrel.gov.

SUPPLEMENTARY INFORMATION: This information collection request contains: (1) OMB No. “New”; (2) Information Collection Request Title: Concentrating Solar Power Solar Advisor Model (SAM) Industry Survey; (3) Type of Request: New collection; (4) Purpose: In an effort to improve the efficiency of Concentrating Solar Plants (CSP), this survey is necessary to collect data for the Department of Energy and the national labs from industry members in order to:

• Assess how the industry is using the SAM tool and its accuracy

• Assess opportunities for, and barriers to, national laboratory and industry collaboration on improving the SAM tool

The information collected in this survey will be published in a report and help to inform new possibilities for the national labs. (5) Annual Estimated Number of Respondents: 100; (6) Annual Estimated Number of Total Responses: 100; (7) Annual Estimated Number of Burden Hours: 25 Hours; (8) Annual Estimated Reporting and Recordkeeping Cost Burden: $45,000.

Statutory Authority: DOE Org Act (42 U.S.C. 7373).

Issued in Washington, DC, on August 4, 2016.
Becca Jones-Albertus,
Director, Office Director, Solar Energy Technologies Office.

[FR Doc. 2016-18991 Filed 8-9-16; 8:45 am]

BILLING CODE 6450-01-P